DEPARTMENT OF ENERGY

Western Area Power Administration

Intent To Relieve Path 15 Transmission Constraints

AGENCY: Western Area Power Administration, DOE.

ACTION: Request for Statements of Interest.

SUMMARY: The National Energy Policy Report announced on May 17, 2001, recommended that the President direct the Secretary of Energy (Secretary) to authorize the Western Area Power Administration (Western) to explore relieving the “Path 15” bottleneck through transmission expansion. The Path 15 bottleneck refers to transmission system constraints which severely limit the flow of electric power over the existing north-south transmission lines located in central California. These existing lines are owned and operated by Pacific Gas and Electric Company (PG&E).

On May 28, 2001, the Secretary directed the Administrator of Western to complete its planning to relieve Path 15 constraints, and determine whether outside parties are interested in helping finance and co-own the necessary system additions, including transmission lines. The level of interest will be a factor in the decision by the Secretary whether or not to build the system additions necessary to relieve the constraints. If the system additions are built under this process, Western will be a project manager for the construction efforts.

In this notice, Western is requesting Statements of Interest from parties interested in helping finance and co-own the system additions.

DATES: To be assured of consideration, all Statements of Interest should be received at Western's Sierra Nevada Regional Office by July 13, 2001.

ADDRESSES: The Statements of Interest should be mailed to: Mr. Howard Hirahara, Acting Regional Manager, Sierra Nevada Region, Western Area Power Administration, 114 Parkshore Drive, Folsom, CA 95630-4710. Statements of Interest may also be faxed to (916) 985-1934 or e-mailed to path15@wapa.gov.

FOR FURTHER INFORMATION CONTACT: For further information concerning the Statements of Interest, contact: Mr. Howard Hirahara, Acting Regional Manager, Sierra Nevada Region, Western Area Power Administration, 114 Parkshore Drive, Folsom, CA 95630-4710, telephone (916) 353-4416.

SUPPLEMENTARY INFORMATION: It was recognized in the 1980s that, under certain power system conditions, the flow of electric power over Path 15 could be severely limited. Western, the Transmission Agency of Northern California (TANC), and PG&E studied the possibility of constructing system additions to relieve Path 15 constraints as part of the planning effort for the California-Oregon Transmission Project (COTP.) The COTP was authorized by the Energy and Water Development Appropriation Act, 1985, Public Law 98-360, 98 Stat. 403, 416, (1984). In 1988, Western released a final Federal environmental impact statement (EIS), and TANC released a final environmental impact review under California law, on the transmission facilities needed for the COTP. The plan included system additions, known as the Los Baños-Gates Transmission Project, to relieve the Path 15 bottleneck. At that time, the Los Baños—Gates Transmission Project would have consisted of 84 miles of new 500-kilovolt (kV) AC transmission line, realignment of the existing Los Baños-Midway No. 2 500-kV transmission line into Gates Substation, modification of the Los Baños and Gates Substations to accommodate new equipment at several existing substations, and reconductoring of portions of the Gates-Arco-Midway 230-kV Transmission Line. It was subsequently determined in the Final EIS that the timing and need for the project were uncertain and if its construction was deferred it would be necessary to make minor modifications to the transmission system south of Tesla Substation to accommodate the increased power transfer demands that would be placed on the system. The COTP was built and placed in service in March 1993. For a variety of reasons, the Los Baños-Gates Transmission Project was not built.

Given the current energy problems in California, including the bankruptcy of the PG&E, the Secretary has now directed Western to complete its planning for the transmission project and to determine whether outside parties are interested in helping to finance and co-own the system additions. Western has general authority under the Department of Energy Organization Act to construct, operate, and maintain transmission lines and attendant facilities. Western has project-specific authority under the Energy and Water Development Appropriation Act, 1985, supra, to construct or participate in the construction of system additions in the Los Baños-Gates area to relieve the Path 15 bottleneck.

Western's initial step is to identify all entities interested in participating in the financing and co-ownership of Path 15 system additions. For this initial step, interested parties should assume that the system additions would be very similar to those proposed in 1988 for the Los Baños—Gates Transmission Project. Western estimates that the cost of the Project today would be approximately $200-300 million. Those entities should submit Statements of Interest including the following:

1. Name of requesting entity and experience in financing electric utility transmission projects.

2. Name, telephone number, facsimile number, and e-mail address of management contact.

3. Name, telephone number, facsimile number, and e-mail address of technical contact.

4. Amount of financing they are willing to contribute to the project.

5. Amount and type of ownership rights they seek.

6. Description of non-monetary contributions they are willing to offer to the project.

7. Description of the proposed participation in sufficient detail to enable Western to evaluate the proposal.

8. Amounts and types of transmission rights they wish to purchase.

Western then will analyze the Statements of Interest. The level of interest will be a factor in the decision by the Secretary whether or not to build the system additions necessary to relieve the Path 15 constraints.

In accordance with the Paperwork Reduction Act of 1980, 44 U.S.C. 3501-3520, Western has received approval from the Office of Management and Budget for the collection of this information under control number 1910-1200.

Western will prepare the necessary environmental and feasibility studies and review easement and land acquisition issues related to the project. Western will review the 1988 COTP EIS and 1991 Supplement Analysis to determine what further action must be taken to comply with National Environmental Policy Act of 1969 and other environmental laws and regulations.

Dated: June 2, 2001.
Michael S. Hacskaylo,
Administrator.

[FR Doc. 01-14874 Filed 6-12-01; 8:45 am]

BILLING CODE 6450-01-P